DEPARTMENT OF ENERGY

Federal Energy Regulatory Commission

[Docket No. ER02-1406-001, et al.]

Acadia Power Partners, LLC, et al.; Order Implementing New Generation Market Power Analysis and Mitigation Procedures

Issued May 13, 2004.

Before Commissioners: Pat Wood, III, Chairman; Nora Mead Brownell, and Joseph T. Kelliher

1. In this order, the Commission addresses the procedures for implementing the new interim generation market power analysis and mitigation policy announced in the Commission's April 14, 2004 Order in AEP Power Marketing, Inc., et al., 107 FERC ¶ 61,018 (2004), reh'g pending (SMA Rehearing Order). This order benefits customers by implementing the policies adopted in the SMA Rehearing Order, which improve the assessment and mitigation of generation market power in wholesale markets, thus better ensuring that prices charged for jurisdictional sales are just and reasonable.

Background

2. In an order issued on November 20, 2001,¹ the Commission announced a new generation market power test, the Supply Margin Assessment (SMA), to be applied to market-based rate applications on an interim basis pending a generic review of new methods for analyzing market power. It also established mitigation measures applicable to entities that fail the interim generation market power test.

¹ See AEP Power Marketing, Inc., et al., 97 FERC ¶ 61,219 (2001) (SMA Order).

3. In the SMA Rehearing Order, the Commission granted rehearing of the SMA Order to the extent that it replaced the SMA generation market power test with two “indicative screens” for assessing generation market power and modified the mitigation announced in the SMA Order. Concurrently with the SMA Rehearing Order, the Commission issued a notice establishing a generic rulemaking docket to initiate a comprehensive review of the appropriate analysis for granting market-based rate authority, in particular, the analysis of generation market power, transmission market power, other barriers to entry, and affiliate abuse and reciprocal dealing.² In the interim, the Commission indicated that the policies it was adopting in the SMA Rehearing Order (which deal with the generation market power part of the analysis) would apply to all pending and future market-based rate applications, including three-year market-based rate reviews, pending the completion of the market-based rate rulemaking. The Commission stated that it intended to issue a subsequent order addressing the implementation process for pending three-year market-based rate reviews as well as pending applications for initial market-based rate authority.

² See Initiation of Rulemaking Proceeding on Market-Based Rates and Notice of Technical Conference, Docket No. RM04-7-000, 107 FERC ¶ 61,109 (2004).

4. In the SMA Rehearing Order, the Commission stated it was not making any findings at that time in connection with the three-year market-based rate review filings of the three applicants that were the subject of the rehearing, nor was it imposing in that order mitigation on those applicants. Instead, each applicant was directed, within 60 days from the date of issuance of the SMA Rehearing Order, to make a filing with the Commission submitting revised generation market power analyses pursuant to the two indicative screens (pivotal supplier and market share) adopted in the order. As the Commission explained, each of these revised filings will be noticed in the Federal Register, with an opportunity for comment by interested parties. The Commission stated that, following its review of these analyses, it would issue an order addressing the filings on the indicative screens. We further stated that applicants that do not pass the two indicative screens (and thus are rebuttably presumed to possess generation market power) will have the option of presenting a more thorough analysis using the Delivered Price Test. In the alternative, the applicants may proceed directly to mitigation. Should they choose this route, we explained that each company will have the option of proposing specific mitigation tailored to its particular circumstances sufficient to alleviate any market power concerns, or adopting default rates, as set forth in the SMA Rehearing Order.³

³ SMA Rehearing Order, 107 FERC ¶ 61,018 at P 206, 207.

Discussion

5. The purpose of this order is to provide a framework for applying the substantive and procedural requirements of the SMA Rehearing Order to other applicants with: (1) Pending three-year market-based rate reviews; (2) pending filings for initial market-based rate authority; or (3) future applications for initial market-based rate authority or future three-year market-based rate reviews.

6. Because the Commission has adopted a new interim approach for analyzing generation market power, we will require that the generation market power portion of all pending and future three-year reviews, as well as all pending and future initial applications for market-based rate authority, address the indicative screens (pivotal supplier and market share) adopted in the SMA Rehearing Order.⁴

⁴ As we stated in the SMA Rehearing Order, we will apply this approach on an interim basis, pending a comprehensive generic review of the appropriate analysis for granting market-based rate authority in the market-based rate rulemaking proceeding. Id. at P 2.

Pending Three-Year Market-Based Rate Reviews

7. Consistent with the procedures set forth in the SMA Rehearing Order, all applicants with three-year market-based rate reviews pending before the Commission on or before the date of issuance of this order are directed to make a filing with the Commission to revise the generation market power portion of their three-year reviews to address the two interim indicative generation market power screens adopted in the SMA Rehearing Order.⁵ The revised filings will be treated as amendments to the pending filings, and all pleadings on the pending filings will remain in the record.

⁵ Moreover, to the extent that the factual circumstances have changed from those described in the pending filing regarding the other three parts of our four-part analysis (i.e., transmission market power, barriers to entry, and affiliate abuse and/or reciprocal dealing), such applicants should provide updated information regarding those parts of the test.

8. In order to facilitate the processing of the pending three-year market-based rate reviews, however, we have decided to stagger the time periods within which such revised filings must be made. In doing so, we have attempted to take into consideration resource issues from the standpoint of both the industry and the Commission. A schedule listing the time period within which each applicant's revised three-year market-based rate review filing must be made is set forth in Appendix A. Each applicant's revised filing will be noticed in the Federal Register, with an opportunity for comment by interested parties.

9. We believe it is appropriate to start with transmission-providing utilities because these utilities are required by the SMA Rehearing Order to undertake simultaneous import capability studies for their home control areas and for each of their interconnected first-tier control areas. As other utilities may need such simultaneous import capability information in order to perform their own generation market power analyses, as a practical matter it is necessary to require that the public utilities with the access to such simultaneous import information (the transmission-providing public utilities) be among the first directed to revise their pending three-year market-based rate reviews consistent with the interim screens adopted in the SMA Rehearing Order.

10. Similarly, because of the importance of information accessibility, we will address early on the three-year market-based rate reviews of public utilities located in ISO/RTOs with a single energy market under the control of the ISO/RTO (e.g., PJM, ISO NE, NYISO, and CAISO). Acting on these types of filings will provide other applicants seeking to obtain or retain market-based rate authority with needed market information that will facilitate the completion of their studies.

11. The timing for processing of the remaining filings is generally based on the age of the filings. We will consider the revised applications directed herein to be the next required three-year market-based rate review for the applicants listed in Appendix A. In the event that a public utility with a three-year market-based rate review pending before the Commission is not listed in Appendix A (and, accordingly, has not been assigned a date for submitting its revised generation market power analysis pursuant to the two indicative screens), such omission is inadvertent. Any such omitted public utility is directed, within 30 days of the date of issuance of this order, to identify itself and the pending docket number.

12. We remind applicants that they may provide streamlined applications, where appropriate, to show that they pass both screens.⁶ For example, if an applicant would pass both screens without considering competing supplies imported from adjacent control areas, the applicant need not include such imports. Likewise, an applicant need only account for the minimum amount of capacity that would result in the applicant passing both screens. Accordingly, an applicant may not need to consider the capacity of all competitors within the relevant market. For example, if there are seven competitors in the relevant market and the applicant passes both screens when considering only three of those competitors, the applicant need not account for the other four competitors, nor consider competing supplies imported from adjacent control areas. Further, utilities meeting the criteria of section 35.27 of our regulations,⁷ as clarified in LG&E Capital Trimble County LLC, 98 FERC ¶ 61,261 at 62,034-35 (2002) (dealing with sales for resale from capacity for which construction commenced on or after July 9, 1996), may provide evidence demonstrating that they satisfy our regulations rather than submit a generation market power analysis.⁸

⁶ See SMA Rehearing Order, 107 FERC ¶ 61,018 at P 38, 113-117.

⁷ 18 CFR 35.27 (2003).

⁸ As we explained in the SMA Rehearing Order, however, if an applicant sites generation in an area where it or its affiliates own or control other generation assets, the applicant must address whether its new capacity, when added to existing capacity, raises generation market power concerns. 107 FERC ¶ 61,018 at P 38, 116.

13. In addition, consistent with the procedures set forth in the SMA Rehearing Order, applicants may forgo submitting a generation market power analysis and go directly to mitigation by proposing case-specific mitigation that eliminates the ability to exercise market power, or agreeing to the default rates.⁹

⁹ Id. at P 39, 148.

14. Finally, we understand that there may be a number of utilities whose three-year market-based rate reviews are due to be filed with the Commission within the next 60 days. In order to provide such utilities an opportunity to incorporate the two indicative screens adopted in the SMA Rehearing Order into the generation market power portion of their three-year reviews, we will grant these utilities an extension of time of 60 days from the date of issuance of this order to submit their three-year market-based rate reviews.

Pending Applications for Initial Market-Based Rate Authority

15. A number of utilities have applications for initial market-based rate authority pending before the Commission, which were filed on or before the date of issuance of this order. These utilities are listed in Appendix B. In light of the Commission's decision to analyze generation market power based on the two indicative screens adopted in the SMA Rehearing Order, the generation market power studies submitted in connection with these pending applications have been rendered deficient. Accordingly, the utilities listed in Appendix B are directed to revise their filings within 60 days from the date of issuance of this order to reflect the new interim generation market power screens. In the alternative, these utilities can revise their filings to indicate that they will forgo submitting a generation market power analysis and go directly to mitigation by proposing case-specific mitigation that eliminates the ability to exercise market power, or agreeing to the default rates.

Future Initial Market-Based Rate Applications and Future Three-Year Reviews

16. All future applications for initial market-based rate authority and future three-year market-based rate reviews (i.e., those not currently pending and that are filed after the date of issuance of this order) should include generation market power analyses pursuant to the two indicative screens (pivotal supplier and market share) described in the SMA Rehearing Order, as well as the other three parts of our four-part analysis. In the alternative, new applicants for market-based rate authority, as well as applicants filing three-year market-based rate reviews, can forgo submitting a generation market power analysis and go directly to mitigation by proposing case-specific mitigation that eliminates the ability to exercise market power, or agreeing to the default rates.

The Commission orders:

(A) The applicants listed in Appendix A are directed to file, within the time period set forth in Appendix A, revised applications, as discussed in the body of this order.

(B) The applicants listed in Appendix B are directed to revise their applications for initial market-based rate authority, as discussed in the body of this order.

(C) Applicants with three-year market-based rate reviews due to be filed within the next 60 days are hereby granted an extension of time of 60 days from the date of issuance of this order, as discussed in the body of this order.

(D) The Secretary is hereby directed to promptly publish this order in the Federal Register.

By the Commission. Commissioner Kelly not participating.
Linda Mitry,
Acting Secretary.

Appendix A

Group I (due within 90 days of the date of this order)
Alliant Energy Corporate Services | ER99-230-002
APS Energy Services, Inc | ER99-4122-004
Arizona Public Service Company | ER99-4124-001
Pinnacle West Capital Corporation | ER00-2268-003
Pinnacle West Energy Corporation | ER00-3312-002
CMS Generation Michigan Power LLC | ER99-3677-001
Consumers Energy Company | ER98-4421-002
Consolidated Water Power Company | ER98-4512-002
El Paso Electric Company | ER99-2416-001
Dayton Power & Light Company | ER96-2602-004
DPL Energy LLC | ER96-2601-015
Duke Energy Morro Bay, LLC | ER98-2681-002
Duke Energy Moss Landing, LLC | ER98-2680-002
Duke Energy Oakland, LLC | ER98-2682-002
Duke Energy South Bay, LLC | ER99-1785-001
Duke Power Co. | ER96-110-007
Duke Solutions, Inc | ER98-3813-007
Kansas City Power & Light Company | ER99-1005-001
Public Service Company of New Mexico | ER96-1551-006
| ER01-615-003
Puget Sound Energy, Inc | ER99-845-003
Group II (due within 135 days of the date of this order)
Avista Energy Inc | ER96-2408-018
Empire District Electric Company | ER99-1757-002
| ER99-1757-003
| ER99-1757-004
AG-Energy, LP | ER98-2782-002
Amergen Energy Company, LLC | ER99-754-008
Commonwealth Edison Company | ER98-1734-006
Exelon Edgar LLC | ER01-513-005
Exelon Energy Company | ER97-3954-016
Exelon Fore River Development, LLC | ER01-41-004
Exelon Framingham LLC | ER01-513-005
Exelon Generation Company, LLC | ER00-3251-005
Exelon New Boston LLC | ER01-513-005
Exelon New England Power Marketing, L.P | ER99-2404-001
| ER99-2404-004
Exelon Mystic Development, LLC | ER01-42-005
Exelon West Medway LLC | ER01-513-005
Exelon Wyman LLC | ER01-513-005
PECO Energy Company | ER99-1872-005
Power City Partners, L.P | ER98-2782-002
Seneca Power Partners, L.P | ER98-2782-002
Sithe Edgar LLC | ER98-1943-002
Sithe New Boston LLC | ER98-1943-002
Sithe Framingham LLC | ER98-1943-002
Sithe West Medway LLC | ER98-1943-002
Sithe Wyman LLC | ER98-1943-002
Sithe Mystic LLC | ER98-1943-002
Sithe Power Marketing, L.P | ER98-107-011
Unicom Power Marketing, Inc | ER01-1919-002
Sterling Power Partners, L.P | ER98-2782-002
Idaho Power Company | ER97-1481-003
Northeast Generation Company | ER99-4463-001
Northeast Utilities Service Company | ER96-496-010
Select Energy, Inc | ER99-14-007
Athens Generating Company, L.P | ER99-4282-002
Attala Generating Company, LLC | ER01-747-002
Badger Generating Company, LLC | ER00-3457-001
Covert Generating Company, LLC | ER01-520-002
Harquahala Generating Company, LLC | ER01-748-002
La Paloma Generating Company, LLC | ER00-107-001
Lake Road Generating Company, L.P | ER99-1714-002
Liberty Generating Company, LLC | ER00-1792-001
Logan Generating Company, L.P | ER95-1007-014
Madison Windpower LLC | ER00-1742-001
Mantua Creek Generating Company, L.P | ER99-4162-002
Millennium Power Partners, L.P | ER98-830-006
Mountain View Power Partners, LLC | ER01-751-001
| ER01-751-005
Mountain View Power Partners II, LLC | ER01-1336-002
Okeechobee Generating Company, LLC | ER99-3643-001
PG&E Dispersed Generating Company, LLC | ER00-2134-001
PG&E Energy Trading Power, L.P | ER95-1625-024
Pittsfield Generating Company, L.P | ER98-4400-003
Plains End, LLC | ER01-2741-002
USGen New England, Inc | ER98-6-008
Western Resources, Inc | ER98-2157-002
Griffin Energy Marketing, LLC | ER97-4168-012
Wisconsin Electric Power Company | ER98-855-002
| ER98-855-003
Wisconsin Public Service Corporation | ER95-1528-006
WPS Energy Services, Inc | ER96-1088-031
WPS Power Development, Inc | ER96-1088-031
Group III (due within 180 days of the date of this order)
AES Alamitos, LLC | ER98-2185-006
AES Huntington Beach, LLC | ER98-2184-006
AES Placerita, Inc | ER00-33-003
AES Redondo Beach, LLC | ER98-2186-006
Indianapolis Power & Light Company | ER00-1026-006
Citizens Power Sales | ER94-1685-031
CPL Power Sales One, LLC | ER95-892-055
CPL Power Sales Two, LLC | ER95-892-055
CPL Power Sales Five, LLC | ER95-892-055
CPL Power Sales Six, LLC | ER96-2652-049
CPL Power Sales Seven, LLC | ER96-2652-049
CPL Power Sales Eight, LLC | ER96-2652-049
CPL Power Sales Nine, LLC | ER96-2652-049
CPL Power Sales Ten, LLC | ER96-2652-049
CPL Power Sales Twelve, LLC | ER99-893-007
CPL Power Sales Thirteen, LLC | ER99-892-008
CPL Power Sales Fourteen, LLC | ER99-891-008
CPL Power Sales Fifteen, LLC | ER99-890-008
CPL Power Sales Seventeen, LLC | ER99-4229-005
CPL Power Sales Eighteen, LLC | ER99-4230-004
CPL Power Sales Nineteen, LLC | ER99-4228-005
CPL Power Sales Twenty, LLC | ER99-4231-004
Edison Mission Marketing & Trading, Inc | ER99-852-006
EME Homer City Generation, L.P | ER99-666-002
Midwest Generation, LLC | ER99-3693-001
Sunrise Power Co | ER01-2217-002
LG&E Energy Marketing, Inc | ER94-1188-033
Louisville Gas & Electric Company | ER98-4540-002
Kentucky Utilities Company | ER99-1623-001
WKE Station 2, Inc | ER98-1278-008
Western Kentucky Energy Corporation | ER98-1279-004
Madison Gas & Electric Company | ER00-586-002
Mirant Americas Energy Marketing, LP | ER01-1265-002
Mirant Bowline, LLC | ER01-1266-002
Mirant California, LLC | ER01-1267-002
| ER01-1267-003
Mirant Canal, LLC | ER01-1268-003
Mirant Chalk Point, LLC | ER01-1269-002
Mirant Delta, LLC | ER01-1270-002
| ER01-1270-003
Mirant Energy Trading, LLC | ER02-1213-001
Mirant Kendall, LLC | ER01-1271-003
Mirant Las Vegas, LLC | ER03-160-001
Mirant Lovett, LLC | ER01-1272-002
Mirant Mid-Atlantic, LLC | ER01-1273-002
Mirant NY-Gen, LLC | ER01-1275-002
Mirant New England, LLC | ER01-1274-003
Mirant Oregon, LLC | ER02-1331-002
Mirant Peaker, LLC | ER01-1276-002
Mirant Potomac River, LLC | ER01-1277-002
Mirant Potrero, LLC | ER01-1278-002
| ER01-1278-003
Mirant Sugar Creek, LLC | ER02-900-001
Mirant Zeeland, LLC | ER01-1263-002
Shady Hills Power Company, LLC | ER02-537-002
West Georgia Generating Company, LLC | ER02-1052-001
Wrightsville Power Facility, LLC | ER02-1028-001
Minnesota Power | ER01-2636-001
Split Rock Energy, LLC | ER00-1857-002
PPL Brunner Island, LLC | ER00-744-001
PPL Colstrip I, LLC | ER99-3491-002
PPL Colstrip II, LLC | ER99-3491-002
PPL Electric Utilities Corp | ER00-1712-003
PPL EnergyPlus, LLC | ER98-4608-005
PPL Holtwood, LLC | ER00-744-001
PPL Martins Creek, LLC | ER00-744-001
PPL Montana, LLC | ER99-3491-002
PPL Montour, LLC | ER00-744-001
PPL Susquehanna, LLC | ER00-744-001
Reliant Energy Coolwater, LLC | ER99-2082-002
Reliant Energy Ellwood, LLC | ER99-2081-002
Reliant Energy Etiwanda, LLC | ER99-2083-002
Reliant Energy Mandalay, LLC | ER99-2080-002
Reliant Energy Ormond Beach, LLC | ER99-2079-002
Reliant Energy Services, Inc | ER99-1801-005
Sempra Energy Solutions | ER00-3444-002
Hardee Power Partners Limited | ER99-2341-001
Panda Gila River, L.P | ER01-931-004
Tampa Electric Company | ER99-2342-001
TECO Energy Source, Inc | ER96-1563-017
Union Power Partners, L.P | ER01-930-004
Group IV (due within 225 days of the date of this order)
Ameren Energy Development Co | ER01-294-002
Ameren Energy Generating Co | ER00-3412-003
Ameren Energy Marketing Co | ER00-816-001
AmerenEnergy Medina Valley Cogen, LLC | ER04-8-002
| ER98-2440-003
AmerenEnergy Resources Generating Co | ER04-53-002
Central Illinois Light Co | ER98-2440-002
Union Electric Co | ER00-2687-002
Aquila, Inc | ER03-1079-002
Aquila Merchant Services, Inc | ER94-216-001
MEP Investments, LLC | ER99-2322-001
MEP Pleasant Hill, LLC | ER99-2858-002
MEP Pleasant Hill Operating, LLC | ER01-905-001
Pleasant Hill Marketing, LLC | ER00-1851-001
Adirondack Hydro Development Corporation | ER00-3109-001
Adirondack Hydro Fourth Branch, LLC | ER00-3774-001
Black Hills Colorado, LLC | ER00-1952-001
Black Hills Generation, Inc | ER01-1844-001
Black Hills Pepperell Power Associates, Inc. | ER96-1635-008
Black Hills Power, Inc | ER99-2287-001
Fountain Valley Power, LLC | ER01-1784-004
Harbor Cogeneration Company | ER99-1248-002
| ER99-1248-003
NYSD LP | ER00-3109-001
Sissonville LP | ER00-3109-001
Warrensburg Hydro Power LP | ER00-3109-001
Acadia Power Partners, LLC | ER02-1406-001
Cleco Evangeline, LLC | ER99-2928-001
Cleco Marketing & Trading, LLC | ER99-2300-004
Cleco Power, LLC | ER99-3855-002
Perryville Energy Partners, LLC | ER01-1397-002
Delmarva Power & Light Company | ER99-2781-002
Crete Energy Venture, LLC | ER02-963-002
The Detroit Edison Company | ER97-324-004
DTE Edison America, Inc | ER98-3026-007
DTE Energy Marketing, Inc | ER99-3368-003
DTE Energy Trading, Inc | ER97-3834-010
DTE Georgetown, LLC | ER00-1746-001
DTE River Rouge No. 1, LLC | ER00-1816-002
Armstrong Limited Energy Partnership, LLP | ER02-24-002
Dominion Energy Marketing, Inc | ER01-468-001
Dominion Nuclear Connecticut, Inc | ER00-3621-002
Dominion Nuclear Marketing I, Inc | ER00-3620-002
Dominion Nuclear Marketing II, Inc | ER00-3619-002
Dominion Nuclear Marketing III, Inc | ER00-3746-003
Dresden Energy, LLC | ER02-22-002
Elwood Energy, LLC | ER99-1695-002
Fairless Energy, LLC | ER02-23-002
Kincaid Generation, LLC | ER99-1432-002
Pleasants Energy, LLC | ER02-26-002
State Line Energy, LLC | ER96-2869-005
Troy Energy, LLC | ER02-25-002
Virginia Electric & Power Company | ER00-1737-004
Backbone Windpower Holdings, LLC | ER02-2559-001
Badger Windpower, LLC | ER01-1071-002
Bayswater Peaking Facility, LLC | ER02-669-002
Blythe Energy, LLC | ER02-2018-002
Calhoun Power Company I, LLC | ER01-2074-002
Doswell Limited Partnership | ER90-80-001
ESI Vansycle Partners, L.P | ER98-2494-004
Florida Power & Light Company | ER97-3359-005
FPL Energy Cape, LLC | ER00-3068-002
FPL Energy Hancock County Wind, LLC | ER03-34-001
FPL Energy Maine Hydro, Inc | ER98-3511-006
FPL Energy Marcus Hook, L.P | ER02-1903-001
FPL Energy Mason, LLC | ER98-3562-006
FPL Energy MH 50, L.P | ER99-2917-003
FPL Energy New Mexico Wind, LLC | ER03-179-002
FPL Energy Pennsylvania Wind, LLC | ER02-2166-001
FPL Energy Power Marketing, Inc | ER98-3566-009
FPL Energy Rhode Island Energy, L.P | ER02-2120-001
FPL Energy Seabrook, LLC | ER02-1838-001
FPL Energy Vansycle, LLC | ER01-838-002
FPL Energy Wyman, LLC | ER98-3563-006
FPL Energy Wyman IV, LLC | ER98-3564-006
Gray County Wind Energy, LLC | ER01-1972-002
Hawkeye Power Partners, LLC | ER98-2076-005
High Winds, LLC | ER03-155-001
Jamaica Bay Peaking Facility, LLC | ER03-623-002
Lake Benton Power Partners II, LLC | ER98-4222-001
Mill Run Windpower, LLC | ER01-1710-002
Somerset Windpower, LLC | ER01-2139-003
West Texas Wind Energy Partners, LP | ER98-1965-002
Florida Power Corporation | ER97-2846-003
Group V (due within 270 days of the date of this order)
The Cleveland Electric Illuminating Company | ER99-2330-001
FirstEnergy Generation Corp | ER01-845-001
FirstEnergy Solutions Corp | ER01-2968-002
Jersey Central Power & Light Company | ER99-2330-001
Metropolitan Edison Company | ER99-2330-001
Ohio Edison Company | ER99-2330-001
Pennsylvania Electric Company | ER99-2330-001
Pennsylvania Power Company | ER99-2330-001
The Toledo Edison Company | ER99-2330-001
Bluegrass Generation Company, LLC | ER02-506-002
Cabrillo Power I LLC | ER99-1115-005
Cabrillo Power II LLC | ER99-1116-005
Calcasieu Power, LLC | ER00-1049-003
Dynegy Danskammer, LLC | ER01-140-002
Dynegy Midwest Generation, Inc | ER00-1895-002
Dynegy Power Marketing, Inc | ER99-4160-003
Dynegy Power Services, Inc | ER94-1612-026
Dynegy Roseton, LLC | ER01-141-002
El Segundo Power, LLC | ER98-1127-005
Foothills Generating, LLC | ER02-554-001
Heard County Power, LLC | ER01-943-002
Illinova Energy Partners, Inc | ER94-1475-021
Long Beach Generation LLC | ER98-1796-004
Nicor Energy, LLC | ER01-1169-002
Renaissance Power, LLC | ER01-3109-002
Riverside Generating Company, LLC | ER01-1044-002
Rockingham Power, LLC | ER99-1567-002
Rocky Road Power, LLC | ER99-2157-002
Rolling Hills Generating, LLC | ER02-553-001
Energy USA-TPC Corp | ER01-1300-003
Northern Indiana Public Service Company | ER00-2173-002
Whiting Clean Energy, Inc | ER00-3219-002
OGE Energy Resources, Inc | ER98-511-002
Oklahoma Gas and Electric Company | ER97-4345-014
Pepco Energy Services, Inc | ER98-3096-008
Potomac Power Resources, LLC | ER01-202-001
Portland General Electric Company | ER98-1643-006
South Carolina Electric & Gas Company | ER96-1085-006
Tucson Electric Power Company | ER98-1150-002
Northern States Power Company | ER98-2640-004
Northern States Power Company (Wisconsin) | ER98-2640-004
Public Service Company of Colorado | ER98-4590-002
Southwestern Public Service Company | ER99-1610-008
Xcel Energy Services Inc | ER01-205-004
Group VI (due within 315 days of the date of this order)
Astoria Gas Turbine Power LLC | ER99-3000-001
CPN Pleasant Hill, LLC | ER01-915-002
CPN Pleasant Hill Operating, LLC | ER01-915-002
De Pere Energy LLC | ER97-1432-011
Mobile Energy LLC | ER01-480-003
Elkem Metals Company—Alloy L.P | ER00-2093-001
Fresno Cogeneration Partners, L.P | ER00-2392-001
HQ Energy Services (US) Inc | ER97-851-012
| ER97-851-013
Morgan Stanley Capital Group Inc | ER94-1384-030
MS Retail Development Corp | ER03-1315-001
Power Contract Finance, LLC | ER02-1485-003
Power Contract Financing II, LLC | ER03-1108-002
Power Contract Financing II, Inc | ER03-1109-002
South Eastern Electric Development Corporation | ER99-2329-002
South Eastern Generating Corporation | ER00-1803-001
Louisiana Generating, LLC | ER00-1259-001
NRG Energy Center Dover LLC | ER00-3160-001
NRG Energy Center Paxton LLC | ER00-2313-001
Onondaga Cogeneration Limited Partnership | ER00-895-001
Otter Tail Corporation | ER00-3080-001
Redbud Energy, LP | ER01-1011-002
South Jersey Energy Company | ER97-1397-010
WFEC GENCO, LLC | ER01-388-002
Williams Energy Marketing & Trading Company | ER99-1722-004
Williams Flexible Generation, LLC | ER00-2469-001
Williams Generation Company—Hazelton | ER97-4587-004
Williams Power Company, Inc | ER03-1331-003

Appendix B

Duquesne Power, L.P | ER04-268-000
Hartford Steam Company | ER04-582-000
| ER04-582-001
| ER04-582-002
PPL Distributed Generation, LLC | ER04-671-000
Tor Power, Inc | ER04-698-000

[FR Doc. 04-11744 Filed 5-24-04; 8:45 am]

BILLING CODE 6717-01-P